DEPARTMENT OF COMMERCE

Foreign-Trade Zones Board

[Docket 75-2011]

Foreign-Trade Zone 33—Pittsburgh, PA; Application for Reorganization/Expansion

An application has been submitted to the Foreign-Trade Zones (FTZ) Board (the Board) by the Regional Industrial Development Corporation of Southwestern Pennsylvania, grantee of FTZ 33, requesting authority to reorganize and expand its zone in the Pittsburgh, Pennsylvania, area, adjacent to the Pittsburgh Customs and Border Protection port of entry. The application was submitted pursuant to the provisions of the Foreign-Trade Zones Act, as amended (19 U.S.C. 81a-81u), and the regulations of the Board (15 CFR part 400). It was formally filed on November 16, 2011.

FTZ 33 was approved by the Board on November 9, 1977 (Board Order 124, 42 FR 59398, 11/17/77) and expanded on March 16, 1981 (Board Order 172, 46 FR 18063, 3/23/81), on May 14, 1998 (Board Order 981, 63 FR 29179, 5/28/98) and on February 23, 2010 (Board Order 1667, 75 FR 13488-13489, 3/22/10).

The current zone project includes the following sites in the Pittsburgh, Pennsylvania area: Site 1 (55 acres)—within the 500-acre RIDC Park West, Park West Drive, Findlay Township, Allegheny County; Site 2 (5,352 acres)—within the 10,000-acre Pittsburgh International Airport complex (includes an aviation fuel depot), Pittsburgh; Site 3 (140 acres)—Leetsdale Industrial Park, First and Center Avenues, Leetsdale; Site 4 (60 acres, 3 parcels)—located at 115 & 400 Hunt Valley Road within the Westmoreland Business and Research Park in Upper Burrell and Washington Townships, Westmoreland County; Site 5 (15 acres)—warehouse facilities located at 154 Keystone Drive, New Castle; Site 6 (73 acres, 10 parcels)—warehouse facilities within the 240-acre City Center Duquesne property, located at South Linden Street, Duquesne, Allegheny County; Site 7 (65 acres, 13 parcels)—within the 135-acre Industrial Center of McKeesport, 200 Center Street, McKeesport, Allegheny County; Site 8 (67 acres, 9 parcels)—within the 925-acre Thorn Hill Industrial Park, 119-151 Commonwealth Drive, Warrendale, Butler & Allegheny Counties; Site 9 (13 acres, 1 parcel)—Lawrenceville Technology Center, Hatfield & 45th Street, Lawrenceville, Allegheny County; Site 10 (17 acres, 5 parcels)—within the 600-acre Allegheny County Industrial Park, 560-570 Alpha Drive, O'Hara Township, Allegheny County; Site 11 (38 acres, 7 parcels)—within the 92-acre Keystone Commons, 200-700 Braddock Avenue, Turtle Creek, Allegheny County; Site 12 (53 acres, 2 parcels)—South Hills Industrial Park, 1200 Lebanon Road, West Mifflin, Allegheny County; Site 13 (737 acres, 2 parcels)—West Port Industrial Park, PA Route 576 & Burgettstown, Imperial, Allegheny County; Site 14 (74 acres, 1 parcel)—Hopewell Business & Industrial Park, Gringo-Clinton Road & PA Rt. 151, Aliquippa, Beaver County; Site 15 (222 acres)—within the Westgate Business Park, PA Rt. 18 & Eastwood Road, Homewood, Beaver County; Site 16 (111 acres, 9 parcels)—within the 372-acre Aliquippa Industrial Park, 101-601 Steel Street, Aliquippa, Beaver County; and, Site 17 (80 acres, 10 parcels)—Ambridge Regional Center, 2301 Duss Avenue, Ambridge, Beaver County.

The applicant is now requesting authority to reorganize and expand the zone project as described below. The proposal includes both additions and deletions with an overall increase in total zone space: (1) Modify Site 1 by removing 9 acres due to changed circumstances (new site acreage—45 acres); (2) modify Site 3 by removing 15 acres (new site acreage—125 acres); (3) modify and expand Site 4 by removing 24 acres and adding 23 acres (new site acreage—59 acres); (4) modify Site 8 by deleting 29 acres (new site acreage—38 acres); (5) modify and expand Site 10 by removing 4 acres and adding 6 acres (new site acreage—19 acres); (6) modify Site 13 by deleting 39 acres (new site acreage—698 acres); (7) modify Site 14 by deleting 6.5 acres (new site acreage—68 acres); and, (8) modify Site 16 by deleting 16 acres (new site acreage—95 acres). In addition, a new site is proposed as follows: Site 18 (336 acres)—RIDC Westmoreland, 1001 Technology Drive, Mt. Pleasant, Pennsylvania. No specific manufacturing authority is being requested at this time. Such requests would be made on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is January 24, 2012. Rebuttal comments in response to material submitted during the foregoing period may be submitted during the subsequent 15-day period to February 8, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Kathleen Boyce at Kathleen.Boyce@trade.gov or (202) 482-1346.

Dated: November 17, 2011.
Andrew McGilvray,
Executive Secretary.

[FR Doc. 2011-30392 Filed 11-23-11; 8:45 am]

BILLING CODE P